DEPARTMENT OF LABOR

Employment and Training Administration

[TA-W-40,081A]

Goss Graphic Systems, Inc., Westmont, IL., and Operating at Various Field Offices in the Following States: TA-W-40,081B, Arizona; TA-W-40,081H, New Jersey; TA-W-40,081C, California; TA-W-40,081I, North Carolina; TA-W-40,081D, Colorado; TA-W-40,081J, Pennsylvania; TA-W-40,081E, Florida; TA-W-40,081K, Texas; TA-W-40,081F, Indiana; TA-W-41,081L, Wisconsin; TA-W-40,081G, Missouri; Amended Certification Regarding Eligibility To Apply for Worker Adjustment Assistance

In accordance with section 223 of the Trade Act of 1974 (19 U.S.C. 2273) the Department of Labor issued a Certification of Eligibility to Apply for Worker Adjustment Assistance on October 31, 2001, applicable to workers of Goss Graphic Systems, Inc., located in Westmont, Illinois. The notice was published in the Federal Register on November 9, 2001 (66 FR 56712).

At the request of the company, the Department reviewed the certification for workers of the subject firm. Information provided by the company show that workers in various States provide support services related to the production of printing presses at Goss Graphic Systems, Inc. The workers' wages for Goss Graphic Systems employees in Arizona, California, Colorado, Florida, Indiana, Missouri, New Jersey, North Carolina, Pennsylvania, Texas, and Wisconsin are paid by Goss Graphic Systems, Inc., Westmont, Illinois.

The intent of the certification is to provide coverage to all workers of the subject firm impacted by increased imports of printing presses. Therefore, the Department is amending the certification to include workers of the firm providing support services at various locations outside Illinois.

The amended notice applicable to TA-W-40,081A is hereby issued as follows:

All workers of Goss Graphic Systems, Inc., Westmont, Illinois, including workers at various field offices located in Arizona, California, Colorado, Florida, Indiana, Missouri, New Jersey, North Carolina, Pennsylvania, Texas, Wisconsin, who became totally or partially separated from employment on or after September 1, 2000, through October 31, 2003, are eligible to apply for adjustment assistance under Section 223 of the Trade Act of 1974.

Signed in Washington, DC, this 16th day of July, 2002.
Linda G. Poole,
Certifying Officer, Division of Trade Adjustment Assistance.

[FR Doc. 02-18630 Filed 7-23-02; 8:45 am]

BILLING CODE 4510-30-P